DEPARTMENT OF THE TREASURY

United States Mint

Pricing for Certain 2010 United States Mint Products

AGENCY: United States Mint, Department of the Treasury.

ACTION: Notice.

SUMMARY: The United States Mint is announcing the price of the 2010 United States Mint Presidential $1 Coin and First Spouse Medal Sets™, 2010 United States Mint Official American Presidency $1 Coin Covers and 2010 Presidential $1 Coin Uncirculated Set™.

The 2010 United States Mint Presidential $1 Coin and First Spouse Medal Sets will be priced at $11.95 each. The first set, featuring Millard and Abigail Fillmore, will be released March 26, 2010.

The 2010 United States Mint Official American Presidency $1 Coin Covers will be priced at $15.95 each. The first set, featuring Millard Fillmore, will be released April 2, 2010.

The 2010 Presidential $1 Coin Uncirculated Set will be priced at $18.95. This set will be released April 13, 2010.

FOR FURTHER INFORMATION CONTACT: B.B. Craig, Associate Director for Sales and Marketing, United States Mint, 801 9th Street, NW., Washington, DC 20220; or call 202-354-7500.

Authority: 31 U.S.C. 5111, 5112 & 9701.

Dated: March 11, 2010.
Edmund C. Moy,
Director, United States Mint.

[FR Doc. 2010-6042 Filed 3-18-10; 8:45 am]

BILLING CODE P